GENERAL SERVICES ADMINISTRATION

Maximum Per Diem Rates for Arizona, Florida, Maryland, Missouri,New Jersey, New Mexico, New York, North Carolina, Ohio, Pennsylvania, Virginia, and Washington

AGENCY: Office of Governmentwide Policy, General Services Administration (GSA).

ACTION: Notice of Per Diem Bulletin 05-5, revised continental United States (CONUS) per diem rates.

SUMMARY: The General Services Administration (GSA) has reviewed the lodging rates of certain locations in the States of Arizona, Florida, Maryland, Missouri, New Jersey, New Mexico, New York, North Carolina, Pennsylvania, Virginia and Washington and determined that they are inadequate. The per diems prescribed in Bulletin 05-5 may be found at http://www.gsa.gov/perdiem.

DATES: This notice is effective April 26, 2005, and applies to travel performed on or after May 6, 2005.

FOR FURTHER INFORMATION CONTACT For clarification of content, contact Lois Mandell, Office of Governmentwide Policy, Travel Management Policy, at (202) 501-2824. Please cite FTR Per Diem Bulletin 05-5.

SUPPLEMENTARY INFORMATION:

A. Background

After an analysis of the per diem rates established for FY 2005 (see the Federal Register notices at 69 FR 53071, August 31, 2004, and 69 FR 60152, October 7, 2004), the per diem rate is being changed in the following locations:

State of Arizona

• All points in the Grand Canyon National Park and Kaibab National Forest within Coconino County

State of Florida

• Escambia County

State of Maryland

• Washington County

State of Missouri

• Pulaski County

State of New Jersey

• Essex, Bergen, Hudson and Passaic Counties

State of New Mexico

• Los Alamos and Rio Arriba Counties

State of New York

• Broome and Orange Counties

State of North Carolina

• Brunswick and Columbus Counties

State of Ohio

• Stark, Lake, Wayne, Medina, Mahoning and Trumbull Counties

State of Pennsylvania

• Franklin and Delaware Counties

State of Virginia

• Nelson County

State of Washington

• King County

B. Procedures

Per diem rates are published on the Internet at www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: April 19, 2005.
Becky Rhodes,
Deputy Associate Administrator.

[FR Doc. 05-8242 Filed 4-25-05; 8:45 am]

BILLING CODE 6820-14-S